DEPARTMENT OF HOMELAND SECURITY

Federal Emergency Management Agency

[Docket ID: FEMA-2014-0025; OMB No. 1660-0130]

Agency Information Collection Activities: Proposed Collection; Comment Request; Generic Clearance for the Collection of Qualitative Feedback on Agency Service Delivery

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Generic Clearance for the Collection of Qualitative Feedback on Agency Service Delivery.

DATES: Comments must be submitted on or before October 3, 2014.

ADDRESSES: To avoid duplicate submissions to the docket, please use only one of the following means to submit comments:

(1) Online. Submit comments at www.regulations.gov under Docket ID FEMA-2014-0025. Follow the instructions for submitting comments.

(2) Mail. Submit written comments to Office of Chief Counsel, Regulatory Affairs Division, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Charlene Myrthil, Director, FEMA Records Management Division, at (202) 646-3935 for further information. You may contact the Records Management Division for copies of the proposed collection of information at facsimile number (202) 212-4701 or email address: FEMA-Information-Collections-Management@dhs.gov.

SUPPLEMENTARY INFORMATION:

Collection of Information

Title: Generic Clearance for the Collection of Qualitative Feedback on Agency Service Delivery.

Type of Information Collection: Revision of a currently approved information collection.

OMB Number: 1660-0130.

FEMA Forms: None.

Abstract: The information collection activity will garner qualitative customer and stakeholder feedback in an efficient, timely manner, in accordance with the Administration's commitment to improving service delivery. By qualitative feedback, we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

Affected Public: Individuals or Households.

Number of Respondents: 326,207.

Number of Responses: 326,207.

Estimated Total Annual Burden Hours: 54,436 hours.

Type of respondent | Form name/form No. | Number of respondents | Number of responses per respondent | Total number of responses | Avg. burden per response (in hours) | Total annual burden (in hours) | Avg. hourly wage rate | Total annual respondent cost
Customer Satisfaction Survey |  | 91,882 | 1 | 91,882 | 0.1677 | 15,409 | $31.26 | $481,673.19
Focus Group |  | 3,800 | 1 | 3,800 | 0.2500 | 950 | 31.26 | 29,697.00
Other: Course Evaluation |  | 225,525 | 1 | 225,525 | 0.1670 | 37,663 | 31.26 | 1,177,335.22
Customer Comment Card |  | 5,000 | 1 | 5,000 | 0.0830 | 415 | 31.26 | 12,972.90
Total |  | 326,207 |  | 326,207 |  | 54,436 |  | 1,701,678.31

Estimated Cost: The estimated annual cost to respondents for the hour burden is $1,701,678.31. There are no annual costs to respondents operations and maintenance costs for technical services. There is no annual start-up or capital costs. The cost to the Federal Government is $1,997,899.53.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 16, 2014.
Charlene D. Myrthil,
Director, Records Management Division, Mission Support Bureau, Federal Emergency Management Agency, Department of Homeland Security.

[FR Doc. 2014-18397 Filed 8-1-14; 8:45 am]

BILLING CODE 9111-19-P